INTERNATIONAL TRADE COMMISSION

[Investigation No. 731-TA-752 (Second Review)]

Crawfish Tail Meat From China

Determination

On the basis of the record ¹ developed in the subject five-year review, the United States International Trade Commission (Commission) determines, pursuant to section 751(c) of the Tariff Act of 1930 (19 U.S.C. 1675(c)), that revocation of the antidumping duty order on crawfish tail meat from China would be likely to lead to continuation or recurrence of material injury to an industry in the United States within a reasonably foreseeable time.

¹ The record is defined in § 207.2(f) of the Commission's Rules of Practice and Procedure (19 CFR 207.2(f)).

Background

The Commission instituted this review on July 1, 2008 (73 FR 37489) and determined on October 6, 2008 that it would conduct an expedited review (73 FR 62318, October 20, 2008).

The Commission transmitted its determination in this review to the Secretary of Commerce on November 25, 2008. The views of the Commission are contained in USITC Publication 4047 (November 2008), entitled Crawfish Tail Meat from China: Investigation No. 731-TA-752 (Second Review).

By order of the Commission.
Issued: November 25, 2008.
William R. Bishop,
Acting Secretary to the Commission.

[FR Doc. E8-28410 Filed 11-28-08; 8:45 am]

BILLING CODE 7020-02-P